ENVIRONMENTAL PROTECTION AGENCY

[EPA-HQ-OPPT-2003-0006; FRL-7746-6]

TSCA Chemical Testing; Receipt of Test Data

AGENCY: Environmental Protection Agency (EPA).

ACTION: Notice.

SUMMARY: This notice announces EPA's receipt of test data regarding In Vitro Dermal Absorption Rate Testing of Certain Chemicals of Interest to the Occupational Safety and Health Administration. Data were received on the following chemicals: Biphenyl (CAS No. 92-52-4); tert-butylcatechol (TBC) (CAS No. 98-29-3); carbon disulfide (CAS No. 75-15-0); catechol (CAS No. 120-80-9); chlorobenzene (CAS No. 108-90-7); cyclohexanol (CAS No. 108-93-0); p-dichlorobenzene (CAS No. 106-46-7); dimethylacetamide (DMAc) (CAS No. 127-19-5); ethylene dichloride (CAS No. 107-06-2); hydroquinone monomethyl ether (HQMME) (CAS No. 150-76-5); methyl formate (CAS No. 107-31-3); vinyl toluene (CAS No. 25013-15-4); and p-xylene (CAS No. 106-42-3). These data were submitted pursuant to a test rule issued by EPA under section 4 of the Toxic Substances Control Act (TSCA).

FOR FURTHER INFORMATION CONTACT: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. This action may, however, be of interest to those persons who are concerned about data on health and/or environmental effects and other characteristics of this chemical. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number EPA-HQ-OPPT-2003-0006. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

Agency Website: EPADOCKET, EPA's electronic public docket and comment system was replaced on November 25, 2005, by an enhanced federal-wide electronic docket management and comment system located at http://www.regulations.gov/. Follow the on-line instructions.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Test Data Submissions

Section 4(d) of TSCA requires EPA to publish a notice in the Federal Register reporting the receipt of test data submitted pursuant to test rules promulgated under section 4(a) within 15 days after these data are received by EPA.

1. Test data for biphenyl were submitted by the Biphenyl Work Group and received by EPA on June 17, 2005. The submission includes a final study report submission titled: “In Vitro Dermal Absorption Rate Testing.” (See document ID No. EPA-HQ-2003-0006-0273.) The submission also includes a letter clarifying that the Biphenyl Work Group is not claiming trade secrecy or confidentiality on this report.

2. Test data for TBC were submitted by the Tertiary-Butylcatechol Consortium and received by EPA on July 20, 2005. The submission includes a final report titled: “[¹⁴C] Tert-Butylcatechol (TBC): Percutaneous Penetration of [¹⁴C] Tert-Butylcatechol Through Human Split-thickness Skin Membranes (in-vitro).” (See document ID No. EPA-HQ-2003-0006-0284.)

3. Test data for carbon disulfide were submitted by the Carbon Disulfide Dermal Absorption Task Group (Task Group) of the American Chemistry Council and received by EPA on August 15, 2005. The submission includes an appended final study report titled: “Carbon Disulfide: In Vitro Dermal Absorption Rate Testing.” (See document ID No. EPA-HQ-2003-0006-0289.)

4. Test data on catechol were submitted by the Catechol Consortium and received by EPA on August 26, 2005. The submission includes a final study report titled “[¹⁴C] Catechol: Percutaneous Penetration of [¹⁴C] Catechol Through Human Split-thickness Skin Membranes (in-vitro).” (See document ID No. EPA-HQ-2003-0006-0287.)

5. Test data for chlorobenzene were submitted by the Chlorobenzene Producers Association (CPA) and received by EPA on June 6, 2005. The submission includes a final study report titled “Chlorobenzene: In Vitro Dermal Absorption Rate Testing.” (See document ID No. EPA-HQ-2003-0006-0255.)

6. Test data for cyclohexanol were submitted on behalf of the Cyclohexanol Dermal Absorption Testing Committee and received by EPA on August 29, 2005. The submission includes a final study report from SafePharm Laboratories titled: “The In Vitro Dermal Absorption of [¹⁴C] Cyclohexanol through Human Skin.” (See document ID No. EPA-HQ-2003-0006-0286.)

7. Test data for p-dichlorobenzene were submitted by the Chlorobenzene Producers Association and received by EPA on June 6, 2005. The submission includes a final study report titled: “p-Dichlorobenzene: In Vitro Dermal Absorption Rate Testing.” (See document ID No. EPA-HQ-2003-0006-0255.)

8. Test data for DMAc were submitted by DuPont Chemical Solutions Enterprise and received by EPA on June 21, 2005. The submission includes a final study report titled: “Dimethylacetamide: In Vitro Dermal Absorption Rate Testing.” (See document ID No. EPA-HQ-2003-0006-0274.)

9. Test data for ethylene dichloride were submitted by the Hazardous Air Pollutant (HAP) Task Force and received by EPA on June 24, 2005. The submission includes a final study report titled: “Ethylene Dichloride: In Vitro Dermal Absorption Rate Testing.” (See document ID No. EPA-HQ-2003-0006-0280.)

10. Test data for HQMME were submitted by the Hydroquinone Monomethyl Ether Dermal Absorption Task Group (Task Group) of the American Chemistry Council Hydroquinone Precursors and Derivatives Panel, and received by EPA on September 27, 2005. The submission includes an appended final study report titled: “Hydroquinone Monomethyl Ether: Measurement of the In Vitro Rate of Percutaneous Absorption Through Human Skin.” (See document ID No. EPA-HQ-2003-0006-0293.)

11. Test data for methyl formate were submitted by Celanese Chemicals and received by EPA on July 18, 2005. The submission includes a final study report titled: “Methyl Formate: In Vitro Dermal Absorption Rate Testing.” (See document ID Nos. EPA-HQ-2003-0006-0281 and EPA-HQ-2003-0006-0282.) The submission also includes a letter clarifying that Celanese is not claiming confidentiality on this report.

12. Test data for vinyl toluene were submitted on behalf of Deltech Corporation by the University of Louisiana and received by EPA on April 4, 2005. The submission includes a final study report submission titled: “Vinyl Toluene: In Vitro Dermal Absorption Rate Testing.” (See document ID Nos. EPA-HQ-2003-0006-0247 and EPA-HQ-2003-0006-0248.) The submission also includes two letters clarifying that the study is not claimed confidential or trade secret.

13. Test data for p-xylene were submitted by the p-Xylene Dermal Absorption Task Group of the American Chemistry Council and received by EPA on September 27, 2005. The submission includes an appended final study report titled: “p-Xylene: In Vitro Dermal Absorption Rate Testing.” (See document ID No. EPA-HQ-2003-0006-0291.)

These chemical substances are used in a wide variety of applications as industrial solvents, which may result in exposures of a substantial number of workers as described in the support document for the Proposed Rule (64 FR 31074, June 9, 1999, Table 3 - Exposure Information for Chemical Substances).

EPA has initiated its review and evaluation process for these submissions. At this time, the Agency is unable to provide any determination as to the completeness of the submissions.

Authority: 15 U.S.C. 2603.

List of Subjects

Environmental protection, Hazardous substances.

Dated: December 29, 2005.
Jim Willis,
Director, Chemical Control Division, Office of Pollution Prevention and Toxics.

[FR Doc. E6-100 Filed 1-9-06; 8:45 am]

BILLING CODE 6560-50-S